DEPARTMENT OF AGRICULTURE

Federal Crop Insurance Corporation

7 CFR Part 457

RIN 0563-AB79

Common Crop Insurance Regulations; Millet Crop Insurance Provisions

AGENCY: Federal Crop Insurance Corporation, USDA.

ACTION: Final rule; correction.

SUMMARY: This document contains a correction to the final regulation the Federal Crop Insurance Corporation published in the Federal Register on Wednesday, January 23, 2002 (67 FR 3036-3039). The regulation pertains to the Millet Crop Insurance Provisions.

EFFECTIVE DATE: February 22, 2002.

FOR FURTHER INFORMATION CONTACT: Gary Johnson, Insurance Management Specialist, Product Development Division, Federal Crop Insurance Corporation, United States Department of Agriculture, 6501 Beacon Drive, Kansas City, MO, 64133, telephone (816) 926-7730.

SUPPLEMENTARY INFORMATION: On page 3037, in the second column, under section 457.165, Millet crop insurance provisions, introductory text, the year 2002 should read 2003.

Signed in Washington DC, on January 28, 2002.
Phyllis W. Honor,
Acting Manager, Federal Crop Insurance Corporation.

[FR Doc. 02-2710 Filed 2-7-02; 8:45 am]

BILLING CODE 3410-08-P